DEPARTMENT OF THE INTERIOR

Minerals Management Service

Notice of Availability of the Final Environmental Impact Statement (EIS) for Outer Continental Shelf (OCS), Eastern Gulf of Mexico Region (GOM), Proposed Sale 181

AGENCY: Minerals Management Service, Interior.

ACTION: Notice of availability of the final EIS on proposed eastern GOM Sale 181.

SUMMARY: The MMS has prepared a final EIS on a proposed OCS oil and gas lease sale in the Eastern GOM. This proposed sale is the only Eastern GOM sale scheduled during the current 5-Year Oil and Gas Leasing Program and the first proposed sale in the Eastern GOM since 1988.

FOR FURTHER INFORMATION CONTACT: Questions concerning the final EIS should be directed to Mr. Archie Melancon, Minerals Management Service, Branch of Environmental Assessment, 381 Elden Street, MS-4042, Herndon, Virginia 20170-4817. He may be reached by telephone at (703) 787-1547.

SUPPLEMENTARY INFORMATION: This EIS addresses a proposed Federal action that offers for lease areas on the GOM OCS that may contain economically recoverable oil and gas resources. Proposed 2001 Eastern Gulf Sale 181 includes lease blocks in the Eastern Planning Area (EPA). The proposed sale is scheduled for December 2001 and would offer for lease 256 blocks in the EPA. At present, 23 blocks within this area are under lease. This area includes about 1.475 million acres located 100 to 200 miles offshore in water depths ranging from 1,600 to 2,926 meters (5,075 to 9,600 feet). The blocks in the EPA outside of the proposed Lease Sale 181 area are excluded from consideration. It is estimated that the proposed action could result in the production of 15 to 115 million barrels of oil and 225 to 750 billion cubic feet of gas. The MMS does not expect all offered blocks to be leased. Of the blocks that will be leased, only a portion would be expected to be drilled and result in subsequent production.

EIS Availability

You may obtain single copies of the final EIS from the Minerals Management Service, Gulf of Mexico OCS Region, Attention: Public Information Office MS-5034), 1201 Elmwood Park Boulevard, Room 114, New Orleans, Louisiana 70123-2394 or by calling 1-800-200-GULF.

You may look at copies of the final EIS in the following libraries:

Alabama

Auburn University at Montgomery Library, 7300 University Drive, Montgomery;

Dauphin Island Sea Lab, Marine Environmental Science Consortium, Library, Bienville Boulevard, Dauphin Island;

Gulf Shores Public Library, Municipal Complex, Route 3, Gulf Shores;

Mobile Public Library, 701 Government Street, Mobile;

Montgomery Public Library, 445 South Lawrence Street, Montgomery;

Thomas B. Norton Public Library, 221 West 19th Avenue, Gulf Shores;

University of South Alabama, 307 University Boulevard, Mobile;

Florida

Bay County Public Library, 25 West Government Street, Panama City;

Charlotte-Glades Regional Library System, 18400 Murdock Circle, Port Charlotte;

Collier County Public Library, 650 Central Avenue, Naples;

Environmental Library, Sarasota County, 7112 Curtis Avenue, Sarasota;

Florida A & M University, Coleman Memorial Library, Martin Luther King Boulevard, Tallahassee;

Florida Northwest Regional Library System, 25 West Government Street, Panama City;

Florida State University, Strozier Library, Call Street and Copeland Avenue, Tallahassee;

Fort Walton Beach Public Library, 105 Miracle Strip Parkway, Fort Walton Beach;

Leon County Public Library, 200 West Park Avenue, Tallahassee;

Marathon Public Library, 3152 Overseas Highway, Marathon;

Monroe County Public Library, 700 Fleming Street, Key West;

Selby Public Library, 1001 Boulevard of the Arts, Sarasota;

St. Petersburg Public Library, 3745 Avenue North, St. Petersburg;

Tampa-Hillsborough County Library, Documents Division, 800 North Ashley, Tampa;

University of Florida Library, University Avenue, Gainesville;

University of Florida, Holland Law Library, Southwest 25th Street, and 2nd Avenue, Gainesville;

University of West Florida Library, 1100 University Parkway, Pensacola;

West Florida Regional Library, 200 West Gregory Street, Pensacola;

Louisiana

Calcasieu Parish Library, 327 Broad Street, Lake Charles;

Cameron Parish Library, Marshall Street, Cameron;

Grand Isle Branch Library, Highway 1, Grand Isle;

Iberville Parish Library, 24605 J. Gerald Berret Boulevard, Plaquemine;

Jefferson Parish Eastbank Regional Library, 4747 West Napoleon Avenue, Metairie;

Jefferson Parish Westbank Regional Library, 2751 Manhattan Boulevard, Harvey;

Lafayette Public Library, 301 W. Congress Street, Lafayette;

Lafitte Branch Library, 2607 Jean Lafitte Blvd. (Hwy. 45), Lafitte;

Lafourche Parish Library, 303 West 5th Street, Thibodaux;

Louisiana State University Library, 760 Riverside Road, Baton Rouge;

Louisiana Tech University, Prescott Memorial Library, Everet Street, Ruston;

Loyola University, Government Documents Library, 6363 St. Charles Avenue, New Orleans;

LUMCON Library, 8124 Highway 56, Chauvin;

McNeese State University, Luther E. Frazar Memorial Library, Ryan Street, Lake Charles;

New Orleans Public Library, 219 Loyola Avenue, New Orleans;

Nicholls State University, Nicholls State Library, Leighton Drive, Thibodaux;

Plaquemines Parish Library, 203 Highway 11, South, Buras;

St. Bernard Parish Library, 1125 East St. Bernard Highway, Chalmette;

St. Charles Parish Library, 105 Lakewood Drive, Luling;

St. John the Baptist Parish Library, 1334 West Airline Highway, LaPlace;

St. Mary Parish Library, 206 Iberia Street, Franklin;

St. Tammany Parish Library, Covington Branch, 310 West 21st Street, Covington;

St. Tammany Parish Library, Slidell Branch, 555 Robert Boulevard, Slidell;

Terrebonne Parish Library, 424 Roussell Street, Houma;

Tulane University, Howard Tilton Memorial Library, 7001 Freret Street, New Orleans;

University of New Orleans Library, Lakeshore Drive, New Orleans;

University of Southwestern Louisiana, Dupre Library, 302 East Street, Mary Boulevard, Lafayette;

Vermilion Parish Library, Abbeville Branch, 200 North Street, Abbeville;

Mississippi

Eudora Welty Library, 1400 Lynch, Jackson;

Gulf Coast Research Laboratory, Gunter Library, 703 East Beach Drive, Ocean Springs;

Hancock County Library System, 312 Highway 90, Bay St. Louis;

Harrison County Library, 14th and 21st Avenues, Gulfport;

Jackson George Regional Library System, 3214 Pascagoula Street, Pascagoula.

Dated: July 3, 2001.
Carolita U. Kallaur,
Associate Director for Offshore Minerals Management.

[FR Doc. 01-17235 Filed 7-9-01; 8:45 am]

BILLING CODE 4310-MR-P